DEPARTMENT OF COMMERCE

International Trade Administration

[A-484-801]

Electrolytic Manganese Dioxide From Greece: Notice of Extension of Time Limit for Final Results of Antidumping Administrative Review

AGENCY: Import Administration, International Trade Administration, Department of Commerce.

ACTION: Notice of extension of time limit for the final results of antidumping duty administrative review.

SUMMARY: The Department of Commerce is extending the time limit for the final results of the antidumping duty administrative review of the antidumping duty order on electrolytic manganese dioxide from Greece. The period of review is April 1, 1998, through March 31, 1999.

EFFECTIVE DATE: August 11, 2000.

FOR FURTHER INFORMATION CONTACT: Hermes Pinilla or Richard Rimlinger, Office of AD/CVD Enforcement 3, Import Administration, International Trade Administration, U.S. Department of Commerce, 14th Street and Constitution Avenue, NW., Washington, DC 20230; telephone: (202) 482-3477 or (202) 482-4477, respectively.

The Applicable Statute

Unless otherwise indicated, all citations to the statute are references to the provisions effective January 1, 1995, the effective date of the amendments made to the Tariff Act of 1930 (the Act) by the Uruguay Round Agreements Act. In addition, all citations to the Department's regulations are to 19 CFR part 351 (1998).

Background

The Department of Commerce (the Department) has received a request to conduct an administrative review of the antidumping duty order on electrolytic manganese dioxide from Greece. On May 20, 1999, the Department initiated this administrative review covering the period April 1, 1998, through March 31, 1999. On May 8, 2000, the Department published the preliminary results of review in the Federal Register (65 FR 26567).

Extension of Time Limit for Final Results

During this review complex issues have been raised regarding the viability of the foreign market and the comparability of the product sold in the exporting country. Due to the constraints on the resources available to analyze such issues appropriately, we require an extension. Therefore, because it is not practicable to complete this review within the time limits mandated by section 751(a)(3)(A) of the Act the Department is extending the time limit for the final results to be 180 days from the date of publication of the preliminary results. Therefore, our final results are due no later than November 6, 2000. This extension of the time limit is in accordance with section 751(a)(3)(A) of the Act and 19 CFR 351.213(h)(2).

Dated: August 4, 2000.
Richard W. Moreland,
Deputy Assistant Secretary for Import Administration.

[FR Doc. 00-20440 Filed 8-10-00; 8:45 am]

BILLING CODE 3510-DS-P